DEPARTMENT OF AGRICULTURE

Forest Service

Mt. Baker-Snoqualmie National Forest; Washington State; Notice of Cancellation of the Environmental Impact Statement for the Proposed Green Mountain Lookout Removal Project, Darrington, Washington

AGENCY: Forest Service, USDA.

ACTION: Notice of cancellation of preparation of environmental impact statement.

SUMMARY: The Forest Service announces that it has discontinued preparation of an Environmental Impact Statement (EIS) for the court ordered removal of Green Mountain Lookout. The Forest Service discontinued preparation of the EIS due to the passage and signing of the “Green Mountain Lookout Heritage Protection Act” (Pub. L. 113-99). The Act amends the Washington State Wilderness Act of 1984 by striking the period at the end and inserting the following: “and except that with respect to the lands described in section 3(5), the designation of such lands as a wilderness area shall not preclude the operation and maintenance of Green Mountain Lookout.” Furthermore, the Act prohibits the Forest Service from moving the lookout from its current location on Green Mountain unless the Secretary of Agriculture determines that moving the Lookout is necessary to preserve the Lookout or to ensure the safety of individuals on or around Green Mountain.

FOR FURTHER INFORMATION CONTACT: Todd Griffin, Project Leader, at (360) 677-2258. Individuals who use telecommunication devices for the deaf (TDD) may call the Federal Information Relay Service (FIRS) at 1-800-877-8339 between 8 a.m. and 8 p.m., Eastern Time, Monday through Friday.

SUPPLEMENTARY INFORMATION: In 2010, a lawsuit was filed against the Forest Service seeking declaratory judgment and injunction requiring the removal of the lookout. The plaintiff alleged that the Forest Service violated the Wilderness Act and the National Environmental Policy Act (NEPA) with the removal and reassembly of the lookout, and the use of mechanized transport. The court agreed with the plaintiff's claims and ordered the Forest Service to remove the lookout. In an amended decision, the court granted a motion that the Forest Service should be afforded the opportunity to determine how to move forward to implement the court's order to remove the lookout. On May 2, 2013, the Forest Service published in the Federal Register a Notice of Intent (NOI) to prepare an Environmental Impact Statement (78 FR 25693). The NOI included a description of the proposed action and described the purpose and need for the project. After receiving a congressional request to extend the scoping period, the Forest Service, on June 3, 2013, published a second NOI in the Federal Register extending the scoping period for 30 days (78 FR 33048). Due to legislation, a Notice of Availability was not published in the Federal Register.

Dated: May 29, 2014.
Jennifer Eberlien,
Forest Supervisor.

[FR Doc. 2014-13508 Filed 6-9-14; 8:45 am]

BILLING CODE 3410-11-P